DEPARTMENT OF COMMERCE

National Oceanic and Atmospheric Administration

[RTID 0648-XD595]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a 2 day in-person meeting of its Ad Hoc Charter For-hire Data Collection Advisory Panel.

DATES: The meeting will convene on Wednesday, January 10, 2024, 9 a.m.-5 p.m. and Thursday, January 11, 2024, 9 a.m.-2 p.m., EST.

ADDRESSES: The meeting will be held in-person at the Gulf Council office. Please visit the Gulf Council website at https://www.gulfcouncil.org for meeting materials.

Council address: Gulf of Mexico Fishery Management Council, 4107 W Spruce Street, Suite 200, Tampa, FL 33607; telephone: (813) 348-1630.

FOR FURTHER INFORMATION CONTACT: Dr. Lisa Hollensead, Fishery Biologist, Gulf of Mexico Fishery Management Council; lisa.hollensead@gulfcouncil.org, telephone: (813) 348-1630.

SUPPLEMENTARY INFORMATION:

Wednesday, January 10, 2024, 9 a.m.-5 p.m., EST.

The meeting will begin with member and staff introductions, overview of Advisory Panel (AP) Meeting Process, election of chair and vice chair, adoption of agenda and review the charge of the AP and overview of Meeting Scope.

The committee will review past discussions from charter-for-hire data collection including presentation and background materials from original Southeast For-Hire Integrated Electronic Reporting (SEFHIER) amendment and technical document of program recommendations. The AP will discuss new charter for-hire data collection program goals and objectives and receive presentations for considerations for a data collection program and summary of SEFHIER program data. The AP will discuss recommendations for a New For-hire Data Collection Program and receive public comments, if any.

Thursday, January 11, 2024, 9 a.m.-2 p.m., EST.

The committee will reconvene and continue discussions on Recommendations for a New For-hire Data Collection Program, revisit the AP charge, evaluate desired program goals and objectives and wrap-up recommendations to Council.

The committee will discuss Other Business items, and receive Public Comments before the meeting adjourns.

The Agenda is subject to change, and the latest version along with other meeting materials will be posted on https://www.gulfcouncil.org.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: December 20, 2023.
Alyssa Lynn Weigers,
Acting Deputy Director, Office of Sustainable Fisheries, National Marine Fisheries Service.

[FR Doc. 2023-28411 Filed 12-22-23; 8:45 am]

BILLING CODE 3510-22-P